NATIONAL AERONAUTICS AND SPACE ADMINISTRATION

[Notice (03-080)]

Notice of Prospective Patent License

AGENCY: National Aeronautics and Space Administration.

ACTION: Notice of prospective patent license.

SUMMARY: NASA hereby gives notice that Brandywine Optics, Inc. of West Chester, Pennsylvania, has applied for an exclusive license to practice the invention described and claimed in U.S. Patent No. 5,880,834, entitled “Convex Diffraction Grating Imaging Spectrometer,” which is assigned to the United States of America as represented by the Administrator of the National Aeronautics and Space Administration. Written objections to the prospective grant of a license should be sent to the NASA Management Office-JPL.

DATES: Comments to this notice must be received by July 23, 2003.

FOR FURTHER INFORMATION CONTACT: Patent Counsel, NASA Management Office-JPL, 4800 Oak Grove Drive, Mail Station 180-801, Pasadena, CA 91109-8099, telephone (818) 354-7770.

Dated: June 26, 2003.
Robert M. Stephens,
Deputy General Counsel.

[FR Doc. 03-17220 Filed 7-7-03; 8:45 am]

BILLING CODE 7510-01-P